DEPARTMENT OF COMMERCE

National Oceanic and Atmospheric Administration

Proposed Information Collection; Comment Request; Application and Reports for Scientific Research and Enhancement Permits Under the Endangered Species Act

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 19, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Craig Heberer at 760-431-9440 x 303, craig.heberer@noaa.gov.

SUPPLEMENTARY INFORMATION:

I. Abstract

The owners of vessels that fish out of West Coast ports for highly migratory species such as tuna, billfish, and sharks are required to submit information about their fishing activities so that the National Marine Fisheries Service and the Pacific Fishery Management Council can monitor the fisheries and determine the effects and effectiveness of the Fishery Management Plan (FMP) for U.S. West Coast Fisheries for Highly Migratory Species (HMS). Catch and effort statistics from logbooks are essential for evaluating if the objectives of the FMP are being achieved and for evaluating the impacts of potential changes in management to respond to new information or new problems in the fisheries. Vessel Monitoring System (VMS) units will facilitate enforcement of closures associated with the longline fishery.

II. Method of Collection

Paper logbooks and electronic reports are required from participants.

III. Data

OMB Control Number: 0648-0498.

Form Number(s): None.

Type of Review: Regular submission (extension of a currently approved collection).

Affected Public: Business or other for-profit organizations.

Estimated Number of Respondents: 756.

Estimated Time per Response: Logbook reports, 1 hour; vessel monitoring system (VMS) reports, 24 seconds; pre-trip reports, 5 minutes.

Estimated Total Annual Burden Hours: 2,579.

Estimated Total Annual Cost to Public: $1,413.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 17, 2010.
Gwellnar Banks,
Management Analyst, Office of the Chief Information Officer.

[FR Doc. 2010-20721 Filed 8-19-10; 8:45 am]

BILLING CODE 3510-22-P